FEDERAL MARITIME COMMISSION

Sunshine Act Meeting

AGENCY: Federal Maritime Commission.

DATES: December 10, 2013.

PLACE: 800 N. Capitol Street NW., First Floor Hearing Room, Washington, DC.

STATUS: The meeting will be held in Closed Session.

MATTERS TO BE CONSIDERED:

Closed Session

1. Commission interview of applicants for the position of Inspector General.

CONTACT PERSON FOR MORE INFORMATION: Karen V. Gregory, Secretary (202) 523 5725.

Karen V. Gregory,
Secretary.

[FR Doc. 2013-29464 Filed 12-6-13; 11:15 am]

BILLING CODE 6730-01-P